DEPARTMENT OF TRANSPORTATION

Federal Aviation Administration

14 CFR Part 71

[Docket No. FAA-2019-0339; Airspace Docket No. 18-AEA-21]

RIN 2120-AA66

Establishment of Area Navigation (RNAV) Routes; Northeastern United States

AGENCY: Federal Aviation Administration (FAA), DOT.

ACTION: Final rule.

SUMMARY: This action establishes two new low altitude RNAV routes, designated T-356, and T-358, in the northeastern United States. The new routes enhance the efficiency of the National Airspace System (NAS) by expanding the availability of RNAV routing and supporting the transition of the NAS from ground-based to satellite-based navigation. Originally, this docket action also proposed to establish routes T-303, T-307, T-320, T-324, and T-335. However, subsequent to the NPRM, the FAA determined that those routes require further development, so they will be addressed in separate docket actions at a later date.

DATES: Effective date 0901 UTC, May 21, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure in the National Airspace System as necessary to preserve the safe and efficient flow of air traffic.

History

The FAA published a notice of proposed rulemaking for Docket No. FAA-2019-0339 in the Federal Register (84 FR 24403; May 28, 2019) establishing seven new low altitude RNAV routes, designated T-303, T-307, T-320, T-324, T-335, T-356, and T-358, in the northeastern United States. Interested parties were invited to participate in this rulemaking effort by submitting written comments on the proposal. No comments were received.

Difference From the NPRM

The above NPRM proposed to establish seven RNAV routes. Subsequent to the issuance of the NPRM, the FAA determined that further development work was needed for routes T-303, T-307, T-320, T-324, and T-335. Consequently, the FAA is removing T-303, T-307, T-320, T-324, and T-335 from this docket action. These routes will be addressed in separate docket actions at a later date. The FAA also determined that establishing routes T-356 and T-358 is essential to enhancing the management of air traffic operations in the vicinity of Baltimore/Washington International Thurgood Marshall Airport (KBWI). Therefore, this rule establishes routes T-356 and T-358 as proposed in the NPRM.

Low altitude RNAV T-routes are published in paragraph 6011 of FAA Order 7400.11D dated August 8, 2019, and effective September 15, 2019, which is incorporated by reference in 14 CFR 71.1. The T-routes listed in this document will be subsequently published in the Order.

FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14 Code of Federal Regulations (14 CFR) part 71 by establishing two new low altitude RNAV routes, designated T-356 and T-358, in the northeastern United States. The routes will expand the availability of RNAV and improve the efficiency of the NAS by reducing the dependency on ground-based navigation systems. The following is a general description of the proposed routes.

T-356: T-356 extends between the WOOLY, MD, fix (38 NM east of the Martinsburg, WV, (MRB) VORTAC) eastward to the SWANN, MD, fix; then northeastward to the ELUDE, MD, fix (9 NM west of the Dupont, DE, (DQO) VORTAC). T-356 replaces VOR Federal airway V-214 between the WOOLY, MD, fix and the ODESA, MD, fix.

T-358: T-358 extends between the Martinsburg, WV, (MRB) VORTAC, and the AVALO, NJ, fix (10 NM south of the Atlantic City, NJ, (ACY) VORTAC). T-358 overlies VOR Federal airway V-268 between the SWANN, MD, fix, and the AVALO, NJ, fix.

Full descriptions of the above routes are listed in “The Amendment” section, below.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action establishing RNAV routes T-356 and T-358, in the northeastern United States, qualifies for categorical exclusion under the National Environmental Policy Act and its implementing regulations at 40 CFR part 1500, and in accordance with FAA Order 1050.1F, Environmental Impacts: Policies and Procedures. The applicable categorical exclusion in FAA Order 1050.1F is paragraph § 5-6.5(a): Rulemaking actions that designate or modify classes of airspace areas, airways, routes, and reporting points (see 14 CFR part 71, Designation of Class A, B, C, D, and E Airspace Areas; Air Traffic Service Routes; and Reporting Points). This action is not expected to cause any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6011 United States Area Navigation Routes.

* * * * *

T-356 WOOLY, MD to ELUDE, MD [New]
Wooly, MD | Fix | (Lat. 39°20′19.18″ N, long. 077°02′11.17″ W)
Drosa, MD | WP | (Lat. 39°18′30.32″ N, long. 076°58′06.22″ W)
Obwon, MD | WP | (Lat. 39°11′54.69″ N, long. 076°32′04.84″ W)
Swann, MD | Fix | (Lat. 39°09′05.28″ N, long. 076°13′43.94″ W)
Gatby, MD | Fix | (Lat. 39°15′40.02″ N, long. 076°06′01.84″ W)
Kerno, MD | Fix | (Lat. 39°18′36.25″ N, long. 076°02′34.92″ W)
Odesa, MD | Fix | (Lat. 39°29′29.00″ N, long. 075°49′44.37″ W)
Elude, MD | Fix | (Lat. 39°39′11.28″ N, long. 075°48′08.43″ W)
T-358 Martinsburg, WV (MRB) to AVALO, NJ [New]
Martinsburg, WV (MRB) | VORTAC | (Lat. 39°23′08.06″ N, long. 077°50′54.08″ W)
Cptal, MD | WP | (Lat. 39°32′16.02″ N, long. 077°41′55.65″ W)
Hogzz, MD | WP | (Lat. 39°34′36.70″ N, long. 077°12′44.75″ W)
Moyrr, MD | WP | (Lat. 39°30′03.42″ N, long. 076°56′10.84″ W)
Danii, MD | WP | (Lat. 39°17′46.42″ N, long. 076°42′19.36″ W)
Obwon, MD | WP | (Lat. 39°11′54.69″ N, long. 076°32′04.84″ W)
Swann, MD | Fix | (Lat. 39°09′05.28″ N, long. 076°13′43.94″ W)
Golda, MD | Fix | (Lat. 39°10′20.27″ N, long. 076°02′51.07″ W)
Bross, MD | Fix | (Lat. 39°11′28.40″ N, long. 075°52′49.88″ W)
Smyrna, DE (ENO) | VORTAC | (Lat. 39°13′53.93″ N, long. 075°30′57.49″ W)
Leeah, NJ | Fix | (Lat. 39°15′39.27″ N, long. 074°57′11.01″ W)
Avalo, NJ | Fix | (Lat. 39°16′54.52″ N, long. 074°30′50.75″ W)

* * * * *

Issued in Washington, DC, on March 4, 2020.
Scott M. Rosenbloom,
Acting Manager, Rules and Regulations Group.

[FR Doc. 2020-04770 Filed 3-9-20; 8:45 am]

BILLING CODE 4910-13-P